DEPARTMENT OF THE INTERIOR

Bureau of Land Management

Emergency Closure of Public Lands; Natrona County, WY

AGENCY: Bureau of Land Management, Interior.

ACTION: Notice of emergency closure.

SUMMARY: Notice is hereby given that certain lands are temporarily closed to motor vehicle use, discharge of firearms, and livestock grazing.

The closed area is locally known as the Poison Spider Shooting Area. The public lands affected by this closure are lands administered by the BLM and described as: part of the North ½ of the Northwest ¼ and part of the North ½ of the Southwest ¼ of Section 14 in Township 33 North, Range 82 West, Sixth Principal Meridian, containing approximately 43 acres. This tract of land is bound on the east by the west bank of the Casper Canal, on the north by the old Poison Spider Road, on the west by the common section line between Sections 14 and 15, and on the south by Poison Spider Road (Natrona County Road 201). The area will be fenced and closure signs will be posted around the perimeter. Maps of the closure area and information on the rehabilitation plans may be obtained from the Casper Field Office.

The Poison Spider Shooting Area has been subject to various uses that cumulatively present a hazard to the general public and has resulted in the destruction of public resources. Unrestricted shooting endangers persons traveling on Poison Spider Road (Natrona County Road 201), Natrona County employees working at a gravel pit to the northwest of the site, employees of the Casper-Alcova Irrigation District performing maintenance on the Casper Canal, and threatens livestock authorized to graze on the public lands.

Various items of refuse such as refrigerators and propane tanks have been dumped at the site and used as targets for firearms. This may lead to the release of toxic substances into the air and/or soil and may result in explosive situations. The shooting of illegally dumped materials poses a potentially dangerous health hazard to individuals who live and work in this area.

Uncontrolled vehicle use has resulted in the destruction of public resources, including vegetation loss, soil compaction, intensive rutting and soil erosion.

The Natrona County Road and Bridge Department has agreed to assist the BLM in cleaning up the site. Upon completion of the clean-up, fencing the perimeter and posting signs, acts prohibited by this notice will be enforced.

DATES: The closure will be effective when published in the Federal Register.

FOR FURTHER INFORMATION CONTACT: Don Whyde, Casper Field Office, 2987 Prospector Drive, Casper, Wyoming, 82604, telephone (307) 261-7600.

Discussion of the Rules: Under the authority of 43 CFR 9268.3(d)(i-iv) and 43 CFR 8364.1(a), the Bureau of land management will enforce the following rule on public lands within the closed area:

1. Motor vehicle use is prohibited in the closed area.

2. Discharging of firearms is prohibited in the closed area.

3. Livestock grazing is prohibited in the closed area.

Exemptions: Persons who are exempt from these rules include any Federal, State, or local officer or employee in the scope of their duties, members of any organized rescue or fire fighting force in performance of their duties, persons employed to conduct maintenance on the Casper Canal, and any person authorized in writing by the Bureau of Land Management, Casper Field Office.

Penalties: The authority for this closure is found under section 303(a) of the Federal Land Policy and Management Act of 1976 (43 U.S.C. 1733(a) and 43 CFR 8360.0-7. Any person who violates this closure may be tried before a United States Magistrate Judge and fined no more than $1,000 or imprisoned for no more than 12 months, or both. Such violations may also be subject to the enhanced fines provided for by 18 U.S.C. 3571.

Dated: November 30, 2004.
Jim Murkin,
Field Manager, Casper Field Office.

[FR Doc. 05-1016 Filed 1-18-05; 8:45 am]

BILLING CODE 4310-40-P